DEPARTMENT OF THE INTERIOR

Bureau of Indian Affairs

Indian Gaming; Correction

AGENCY: Bureau of Indian Affairs, Interior.

ACTION: Notice of Approved Tribal—State Class III Gaming Compact; Correction.

SUMMARY: The Bureau of Indian Affairs (BIA) published a document in the Federal Register of July 12, 2012, providing notice that the Tribal—State Class III Gaming Compact between the State of California and the Federated Indians of Graton Rancheria was approved. That notice incorrectly stated that the approved document was an extension and did not make clear that the document was deemed approved.

DATES: Effective Date: July 12, 2012.

SUPPLEMENTARY INFORMATION: In the Federal Register of July 12, 2012, in FR Doc. 2012-17042, make the following corrections:

1. On page 41200, in the first column, replace the phrase in the ACTION section with the following phrase: “Notice of Tribal—State Class III Gaming Compact taking effect.”

2. On page 41200, in the first column, replace the sentence in the SUMMARY section with the following sentence: “This provides notice that the Tribal—State Class III Gaming Compact between the State of California and the Federated Indians of Graton Rancheria is considered to have been approved and is in effect.”

3. On page 41200, in the second column, replace the sentence “This Compact is considered to have been approved but only to the extent that the Compact is consistent with the provisions of IGRA” with the following two sentences:

“The Acting Assistant Secretary—Indian Affairs, Department of the Interior, through his delegated authority, did not approve or disapprove the compact within 45 days after the date the compact was received. Therefore, pursuant to 25 U.S.C. 2710(d)(8)(C), the Compact is considered to have been approved, but only to the extent that the Compact is consistent with the provisions of IGRA.”

Dated: July 16, 2012.
Donald E. Laverdure,
Acting Assistant Secretary—Indian Affairs.

[FR Doc. 2012-17823 Filed 7-20-12; 8:45 am]

BILLING CODE 4310-4N-P